SMALL BUSINESS ADMINISTRATION

[Disaster Declaration #13959 and #13960]

Mississippi Disaster Number MS-00072

AGENCY: U.S. Small Business Administration.

ACTION: Amendment 2.

SUMMARY: This is an amendment of the Presidential declaration of a major disaster for the State of Mississippi (FEMA-4175-DR), dated 04/30/2014.

Incident: Severe storms, tornadoes, and flooding.

Incident Period: 04/28/2014 through 05/03/2014.

Effective Date: 05/06/2014.

Physical Loan Application Deadline Date: 06/30/2014.

EIDL Loan Application Deadline Date: 01/30/2015.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: The notice of the Presidential disaster declaration for the State of MISSISSIPPI, dated 04/30/2014 is hereby amended to include the following areas as adversely affected by the disaster:

Primary Counties: (Physical Damage and Economic Injury Loans): Jones; Leake; Montgomery; Simpson; Warren.

Contiguous Counties: (Economic Injury Loans Only):

Louisiana: East Carroll; Madison; Tensas.

Mississippi: Carroll; Claiborne; Covington; Forrest; Grenada; Issaquena; Jefferson Davis; Lawrence; Newton; Webster.

All other information in the original declaration remains unchanged.

(Catalog of Federal Domestic Assistance Numbers 59002 and 59008)

James E. Rivera,
Associate Administrator for Disaster Assistance.

[FR Doc. 2014-10926 Filed 5-12-14; 8:45 am]

BILLING CODE 8025-01-P